DEPARTMENT OF JUSTICE

Drug Enforcement Administration

James Curtis Dilday, M.D.; Revocation of Registration

On June 27, 2005, the Deputy Assistant Administrator, Office of Diversion Control, Drug Enforcement Administration, issued an Order to Show Cause to James Curtis Dilday, M.D. (Respondent) of Little Rock, Arkansas. The Show Cause Order proposed to revoke Respondent's DEA Certificate of Registration, BD1434872, as a practitioner, and to deny any pending applications for renewal or modification of the registration, on the grounds that Respondent's state medical license had been revoked, see 21 U.S.C. 824(a)(3), and that Respondent had committed acts that rendered his registration inconsistent with the public interest. See id. § 824(a)(4); see also id. § 823(f).

The Show Cause Order specifically alleged that on numerous occasions, Respondent had improperly prescribed controlled substances (including Schedule II controlled substances) to ten patients. See Show Cause Order at 2-4. The Show Cause Order also alleged that between November 28, 2000, and November 12, 2002, Respondent had submitted fifteen fraudulent claims to insurers for medical services that were not performed. See id. at 4-5. The Show Cause Order further alleged that Respondent had pled no contest on behalf of his medical corporation in a state criminal proceeding to fifteen counts of committing fraudulent insurance acts and fifteen counts of theft. See id. at 6. Finally, the Show Cause Order alleged that the Arkansas State Medical Board had revoked Respondent's state medical license. See id. The Show Cause Order also notified Respondent of its right to a hearing. See id. at 7.

Respondent, through his counsel, requested a hearing; the case was assigned to Administrative Law Judge (ALJ) Mary Ellen Bittner. Thereafter, on August 11, 2005, the Government moved for summary disposition and to stay the proceeding. The Government's motion for summary disposition was based on the fact that on June 21, 2004, the Arkansas State Medical Board revoked Respondent's state medical license. The Government asserted that as a result of the revocation of Respondent's medical license, Respondent was without authority to handle controlled substances in Arkansas, the State in which Respondent was registered with DEA. Because DEA has consistently interpreted the Controlled Substances Act as barring a federal registration if a practitioner lacks authority under state law to handle controlled substances in the State where he practices, the Government sought a ruling from the ALJ recommending the revocation of Respondent's DEA registration and terminating the proceeding.

On August 12, 2005, the ALJ issued a memorandum to counsel offering Respondent the opportunity to respond to the Government's motion by 4 p.m. eastern time on August 29, 2005. By September 23, 2005, when no response had been filed, the ALJ issued her Opinion and Recommended Decision.

The ALJ explained that Respondent did not deny that he lacked authority under Arkansas law to handle controlled substances in that State. ALJ Dec. at 2. Noting that DEA precedents have “consistently held that a person may not hold a DEA registration if he is without appropriate authority under the laws of the state in which he does business,” the ALJ concluded that “[b]ecause Respondent lacks this state authority * * * he is not entitled to retain his DEA registration.” Id. (citations omitted). Furthermore, as no material fact was in dispute, summary disposition was appropriate. See id. The ALJ thus granted the government's motion and recommended that Respondent's registration be revoked and any pending applications be denied. See id. at 2-3.

Having considered the record as a whole, I hereby issue this decision and final order. I adopt in its entirety the ALJ's opinion and recommended decision. Because the facts are straightforward and not in dispute, there is no need to elaborate on them. As the ALJ found, Respondent is no longer authorized to distribute controlled substances under State law. Therefore, under our precedents, Respondent is not entitled to maintain his DEA registration. See Sheran Arden Yeates, M.D., 71 FR 39130, 39131 (2006); Dominick A. Ricci, M.D., 58 FR 51104, 51105 (1993); Bobby Watts, M.D., 53 FR 11919, 11920 (1988).

Order

Accordingly, pursuant to the authority vested in me by 21 U.S.C. §§ 823(f) & 824(a), as well as 28 CFR 0.100(b) & 0.104, I hereby order that DEA Certificate of Registration, BD1434872, issued to James Curtis Dilday, M.D., be, and it hereby is, revoked. I further order that any pending application for renewal or modification of such registration be, and they hereby are, denied. This order is effective October 2, 2006.

Dated: August 22, 2006.
Michele M. Leonhart,
Deputy Administrator.

[FR Doc. E6-14521 Filed 8-31-06; 8:45 am]

BILLING CODE 4410-09-P